DEPARTMENT OF STATE

[Public Notice 3686]

Privacy Act of 1974: Alteration of an Existing System of Records

Notice is hereby given that the Department of State proposes to alter an existing system of records, STATE-43, pursuant to the provisions of the Privacy Act of 1974, as amended (5 U.S.C. 522a (r)), and the Office of Management and Budget Circular No. A-130, Appendix I. The alteration of STATE-43 incorporates the records of similar systems of records previously maintained by the former United States Information Agency and the former Arms Control and Disarmament Agency as a result of the consolidation of those agencies with the Department as mandated by the Foreign Affairs Agencies Consolidation Act of 1998 (Pub. L. 105-277). The Department's report was filed with the Office of Management and Budget on May 16, 2001.

It is proposed that the current system STATE-43 be renamed “Congressional Correspondence Records” and due to the expanded scope of the current system, the altered system description will include revisions and/or additions to all sections except the system location and categories of individuals covered by the system. Changes to the existing system description are proposed in order to reflect more accurately the Bureau of Legislative Affairs' record-keeping systems and a reorganization of activities and operations.

Any persons interested in commenting on the altered system of records may do so by submitting comments in writing to Margaret Peppe, Chief; Programs and Policies Division; Office of IRM Programs and Services; A/RPS/IPS/PP; U.S. Department of State, SA-2; Washington, DC 20522-6001.

This system of records will be effective 40 days from the date of publication, unless we receive comments that will result in a contrary determination.

The altered system description, “Congressional Correspondence Records, STATE-43” will read as set forth below.

Dated: May 16, 2001.
Patrick F. Kennedy,
Assistant Secretary for the Bureau of Administration, Department of State.

STATE-43

System name:

Congressional Correspondence Records.

Security classification:

Unclassified and classified.

System location:

Department of State; 2201 C Street, NW; Washington, DC 20520.

Categories of individuals covered by the system:

Members of Congress and their constituents who request Congressional assistance in obtaining information or services from the Department of State.

Categories of records in the system:

Correspondence, memoranda and E-mail messages between Members of Congress, Congressional Committees, and the Department including our posts abroad pertaining to Congressional and constituents' requests for information or services from the Department.

Authority for maintenance of the system:

22 U.S.C. 2651a (Organization of the Department of State); 22 U.S.C. 3921 (Management of service); 5 U.S.C. 301 (Management of the Department of State).

Purpose(s):

The information in this system of records is collected and maintained by the Bureau of Legislative Affairs to fulfill its responsibility to the Congress in tracking Members' correspondence and providing appropriate responses.

Routine uses of records maintained in the system, including categories of users and purposes of such uses:

The information in this system is used:

—to respond to requests from Congress, Congressional Committees or constituents of Members of Congress for information or services from the Department; and

—to provide Department principals with information regarding trends or particular interests of Members of Congress or their constituents.

Also see the “Routine Uses” paragraph of the Prefatory

Statement published in the Federal Register.

Policies and practices for storing, retrieving, accessing, retaining and disposing of records in the system:

Storage:

Electronic media.

Retrievability:

Individual name.

Safeguards:

All employees of the Department of State have undergone a thorough background security investigation. Access to the Department and its annexes is controlled by security guards and admission is limited to those individuals possessing a valid identification card or individuals under proper escort. All records containing personal information are maintained in secured file cabinets or in restricted areas, access to which is limited to authorized personnel. Access to computerized files is password-protected and under the direct supervision of the system manager. The system manager has the capability of printing audit trails of access from the computer media, thereby permitting regular and ad hoc monitoring of computer usage.

Retention and disposal:

These records will be maintained until they become inactive, at which time they will be retired or destroyed in accordance with published records schedules of the Department of State and as approved by the National Archives and Records Administration. More specific information may be obtained by writing to the Director; Office of IRM Programs and Services; SA-2; Department of State; 515 22nd Street, NW.; Washington, DC 20522-6001.

System manager(s) and address:

Director, Office of Legislative Operations; Department of State; 2201 C Street, NW; Washington, DC 20520.

Notification procedure:

Individuals who have reason to believe that the Bureau of Legislative Affairs might have records pertaining to themselves should write to the Director; Office of IRM Programs and Services; SA-2; Department of State; 515 22nd Street, NW; Washington, DC 20522-6001. The individual must specify that he/she wishes the Congressional Correspondence Records to be checked. At a minimum, the individual should include: name; date and place of birth; a brief description of the circumstances that caused the creation of the record and the approximate dates; current mailing address and zip code; signature and preferably, his/her social security number.

Record access procedures:

Individuals who wish to gain access to or amend records pertaining to themselves should write to the Director; Office of IRM Programs and Services (address above).

Record source categories:

These records contain information obtained from Members of Congress, constituents who requested assistance, and substantive responding offices.

Systems exempted from certain provisions of the Act:

None.

[FR Doc. 01-13676 Filed 5-30-01; 8:45 am]

BILLING CODE 4710-24-P